INTERNATIONAL TRADE COMMISSION

[Investigation No. 337-TA-1371]

Certain LED Lighting Devices, LED Power Supplies, Components Thereof, and Products Containing Same; Notice of Commission Determination Not To Review an Initial Determination Terminating the Investigation Based on Settlement

AGENCY: U.S. International Trade Commission.

ACTION: Notice.

SUMMARY: Notice is hereby given that the U.S. International Trade Commission has determined not to review an initial determination (“ID”) (Order No. 15) issued by the presiding administrative law judge (“ALJ”), terminating the investigation in its entirety based on settlement.

FOR FURTHER INFORMATION CONTACT: Robert J. Needham, Esq., Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on August 18, 2023, based on a complaint filed by Signify North America Corporation of Bridgewater, New Jersey, and Signify Holding B.V. of the Netherlands (together, “Signify”). 88 FR 56661-62 (Aug. 18, 2023). The complaint alleges violations of section 337 of the Tariff Act of 1930, as amended, 19 U.S.C. 1337, in the importation into the United States, the sale for importation, or the sale within the United States after importation of certain LED lighting devices, LED power supplies, components thereof, and products containing same by reason of infringement of claims 1-4, 6, and 7 of U.S. Patent No. 8,063,577; claim 1 of U.S. Patent No. 9,119,268; and claims 1, 4-7, 9, 10, 14, and 15 of U.S. Patent No. 8,070,328. Id. The complaint further alleges that a domestic industry exists. Id. The Commission's notice of investigation named as respondent Current Lighting Solutions, LLC of Beachwood, Ohio (“Current”). Id. at 56662. The Office of Unfair Import Investigations (“OUII”) is participating in the investigation. Id.

On February 16, 2024, Signify and Current filed a joint motion to terminate the investigation based on a settlement agreement between Signify and Current. On February 21, 2024, OUII filed a response in support of the motion.

On February 21, 2024, the ALJ issued the subject ID pursuant to Commission Rule 210.21(b) (19 CFR 210.21(b)), granting the motion. The ID finds that the parties complied with the requirement to attach the settlement agreement and that terminating the investigation based on settlement does not adversely affect the public interest. No party petitioned for review of the subject ID.

The Commission has determined not to review the subject ID. The investigation is hereby terminated in its entirety.

The Commission vote for this determination took place on March 12, 2024.

The authority for the Commission's determination is contained in section 337 of the Tariff Act of 1930, as amended (19 U.S.C. 1337), and in Part 210 of the Commission's Rules of Practice and Procedure (19 CFR part 210).

By order of the Commission.
Issued: March 12, 2024.
Lisa Barton,
Secretary to the Commission.

[FR Doc. 2024-05652 Filed 3-15-24; 8:45 am]

BILLING CODE 7020-02-P